DEPARTMENT OF THE INTERIOR

National Park Service

[NPS-WASO-NAGPRA-NPS0033682; PPWOCRADN0-PCU00RP14.R50000]

Notice of Intent To Repatriate Cultural Items: The University of California, Berkeley, Berkeley, CA

AGENCY: National Park Service, Interior.

ACTION: Notice.

SUMMARY: The University of California, Berkeley, in consultation with the appropriate Indian Tribes or Native Hawaiian organizations, has determined that the cultural items listed in this notice meet the definition of sacred objects. Lineal descendants or representatives of any Indian Tribe or Native Hawaiian organization not identified in this notice that wish to claim these cultural items should submit a written request to the University of California, Berkeley. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of California, Berkeley at the address in this notice by May 9, 2022.

FOR FURTHER INFORMATION CONTACT: Dr. Thomas Torma, University of California, Berkeley; 200 California Hall, Berkeley, CA 94720 telephone (510) 672-5388, email t.torma@berkeley.edu.

SUPPLEMENTARY INFORMATION: Notice is here given in accordance with the Native American Graves Protection and Repatriation Act (NAGPRA), 25 U.S.C. 3005, of the intent to repatriate cultural items under the control of the University of California, Berkeley, in Berkeley, CA, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In December of 1949, 28 cultural items were removed from the Sulphur Bank Round House in Lake County, CA, when Francis Riddell and Thomas Meighan visited Sulfur Bank with the intention of purchasing Sarah Brigham's Big Head Regalia. Sarah Brigham was a Maru or A'bqo, who used the regalia during traditional religious ceremonies. Riddell and Meighan reported that, John Kelsey, the leader of the dance house, informed them the items were now in the possession of Sarah Brigham's son, Tom Morinda. According to the testimony of Fritz Riddell, they paid $25.00 to bail Tom Morinda out of prison in exchange for the items, which were almost immediately accessioned into the collection. On December 12, 2021, Bonny Morinda and her son, Robert Geary, requested the return of these 28 items. They presented evidence to show that they are the direct lineal descendants of Sarah Brigham and Tom Morinda, they are present day adherents of the Big Head Ceremony, Robert Geary is a present-day Maru or A'bqo, and these items are needed for the practice of the ceremony.

The 28 sacred objects are one lot of spines, one lot of bandoliers, one lot of feathers, one lot of flags, one lot of hairpins, one lot of skirts, one lot of whistles, one set of arrows, one quiver, one awl, one belt, one blue cloth, one bow, one choker, one cloth, one feather blind, one lot of head nets, one headdress, one headdress foundation, one headdress ring, one top knot, one visor, one lot of necklaces, one ribbon, one lot of pendants, one rattle, one repair kit, and one tule necklace.

Determinations Made by the University of California, Berkeley

Officials of the University of California, Berkeley have determined that:

• Pursuant to 25 U.S.C. 3001(3)(C), the 28 cultural items described above are specific ceremonial objects needed by traditional Native American religious leaders for the practice of traditional Native American religions by their present-day adherents.

• Pursuant to 25 U.S.C. 3005(a)(5)(A) and 43 CFR 10.2(b)(1), Bonny Morinda and Robert Geary are the direct lineal descendants of the individuals who owned the sacred objects.

Additional Requestors and Disposition

Lineal descendants or representatives of any Indian Tribe or Native Hawaiian organization not identified in this notice that wish to claim these cultural items should submit a written request with information in support of the claim to Dr. Thomas Torma, University of California, Berkeley; 200 California Hall, Berkeley, CA 94720 telephone (510) 672-5388, email t.torma@berkeley.edu, by May 9, 2022. After that date, if no additional claimants have come forward, transfer of control of the sacred objects to Bonny Morinda and Robert Geary may proceed.

The University of California, Berkeley is responsible for notifying Bonny Morinda, Robert Geary, and the Elem Indian Colony of Pomo Indians of the Sulphur Bank Rancheria, California that this notice has been published.

Dated: April 1, 2022.
Melanie O'Brien,
Manager, National NAGPRA Program.

[FR Doc. 2022-07603 Filed 4-7-22; 8:45 am]

BILLING CODE 4312-52-P